DEPARTMENT OF COMMERCE

International Trade Administration

[A-423-813, A-301-803, and A-549-833]

Citric Acid and Certain Citrate Salts From Belgium, Colombia and Thailand: Antidumping Duty Orders

AGENCY: Enforcement and Compliance, International Trade Administration, Department of Commerce.

SUMMARY: Based on affirmative final determinations by the Department of Commerce (Commerce) and the International Trade Commission (ITC), Commerce is issuing antidumping duty (AD) orders on citric acid and certain citrate salts (citric acid) from Belgium, Colombia and Thailand.

DATES: Applicable July 25, 2018.

FOR FURTHER INFORMATION CONTACT: Paul Stolz (Belgium), Stephanie Moore (Colombia) or Joy Zhang (Thailand); AD/CVD Operations, Office III, Enforcement and Compliance, International Trade Administration, U.S. Department of Commerce, 1401 Constitution Avenue NW, Washington, DC 20230; telephone: (202) 482-4474, (202) 482-3692, (202) 482-1168, respectively.

SUPPLEMENTARY INFORMATION:

Background

On June 5, 2018, in accordance with sections 735(d) and 777(i)(1) of the Tariff Act of 1930, as amended (the Act) and 19 CFR 351.210(c), Commerce published its affirmative final determinations in the less-than-fair-value (LTFV) investigations of citric acid from Belgium, Colombia and Thailand.¹ On July 10, 2018, the ITC notified Commerce of its affirmative final determination, pursuant to section 735(d) of the Act, that an industry in the United States is materially injured within the meaning of section 735(b)(1)(A)(i) of the Act, by reason of the LTFV imports of citric acid from Belgium, Colombia, and Thailand, and its determination that critical circumstances do not exist with respect to imports of citric acid from Thailand subject to Commerce's affirmative critical circumstances determination.² On July 16, 2018, the ITC published its final determination in the Federal Register.³

¹ See Citric Acid and Certain Citrate Salts from Belgium: Affirmative Final Determination of Sales at Less Than Fair Value, 83 FR 26001 (June 5, 2018) (Belgium Final Determination); see also Citric Acid and Certain Citrate Salts from Colombia: Affirmative Final Determination of Sales at Less Than Fair Value and Final Negative Determination of Critical Circumstances, 83 FR 26002 (June 5, 2018) (Colombia Final Determination); and Citric Acid and Certain Citrate Salts from Thailand: Affirmative Final Determination of Sales at Less Than Fair Value and Final Affirmative Determination of Critical Circumstances in Part, 83 FR 25998 (June 5, 2018) (Thailand Final Determination).

² See Letter from the ITC to the Honorable Gary Taverman, dated July 10, 2018 (Notification of ITC Final Determination); see also Citric Acid from Belgium, Colombia, and Thailand, Investigation Nos. 731-TA-1374-1376 (Final) (July 2018). On October 20, 2017, the petitioners submitted a timely filed critical circumstances allegation with respect to imports from Colombia and Thailand. Commerce subsequently issued a negative critical circumstances determination with regard to the investigation for Colombia and, thus, the ITC did not address critical circumstances for Colombia in its final injury determination.

³ See Citric Acid from Belgium, Colombia, and Thailand; Determinations, 83 FR 32905 (July 16, 2018).

Scope of the Order

The product covered by these orders is citric acid from Belgium, Colombia, and Thailand. For a complete description of the scope of these orders, see the Appendix to this notice.

Antidumping Duty Orders

In accordance with sections 735(b)(1)(A)(i) and 735(d) of the Act, the ITC notified Commerce of its final determination in these investigations that an industry in the United States is materially injured by reason of imports of citric acid from Belgium, Colombia, and Thailand.⁴ The ITC also notified Commerce of its determination that critical circumstances do not exist with respect to imports of citric acid from Thailand subject to Commerce's critical circumstances finding.⁵ Therefore, in accordance with section 735(c)(2) of the Act, Commerce is issuing these AD orders. Because the ITC determined that imports of citric acid from Belgium, Colombia, and Thailand are materially injuring a U.S. industry, unliquidated entries of such merchandise from Belgium, Colombia, and Thailand, entered or withdrawn from warehouse for consumption, are subject to the assessment of antidumping duties. Therefore, in accordance with section 736(a)(1) of the Act, Commerce will direct U.S. Customs and Border Protection (CBP) to assess, upon further instruction by Commerce, antidumping duties equal to the amount by which the normal value of the merchandise exceeds the export price (or constructed export price) of the merchandise, for all relevant entries of citric acid from Belgium, Colombia, and Thailand. Antidumping duties will be assessed on unliquidated entries of citric acid from Belgium, Colombia, and Thailand entered, or withdrawn from warehouse for consumption, on or after January 8, 2018, the date on which Commerce published its preliminary determinations in the Federal Register.⁶

⁴ See Notification of ITC Final Determination.

⁵ Id.

⁶ See Citric Acid and Certain Citrate Salts from Belgium: Preliminary Affirmative Determination of Sales at Less Than Fair Value, Postponement of Final Determination, and Extension of Provisional Measures, 83 FR 787 (January 1, 2018); see also Citric Acid and Certain Citrate Salts from Colombia: Preliminary Affirmative Determination of Sales at Less Than Fair Value, Preliminary Negative Critical Circumstances Determination Postponement of Final Determination, and Extension of Provisional Measures, 83 FR 791 (January 1, 2018), and Citric Acid and Certain Citrate Salts from Thailand: Preliminary Affirmative Determination of Sales at Less Than Fair Value, Preliminary Affirmative Critical Circumstances Determination, in Part, and Postponement of Final Determination and Extension of Provisional Measures, 83 FR 784 (January 1, 2018).

Continuation of Suspension of Liquidation

In accordance with section 735(c)(1)(B) of the Act, Commerce will instruct CBP to continue to suspend liquidation of all relevant entries of citric acid from Belgium, Colombia, and Thailand. These instructions suspending liquidation will remain in effect until further notice.

Commerce will also instruct CBP to require cash deposits for estimated antidumping duties equal to the estimated cash deposit rates indicated below. Accordingly, effective the date of publication of the ITC's final affirmative injury determination, CBP will require, at the same time as importers would normally deposit estimated duties on the subject merchandise, a cash deposit equal to the cash deposit rates listed below. The relevant all-others rates apply to producers or exporters not specifically listed, as appropriate.

Critical Circumstances

With regard to the ITC's negative critical circumstances determination regarding imports of citric acid from Thailand, Commerce will instruct CBP to lift suspension and refund any cash deposits made to secure payment of estimated antidumping duties on subject merchandise entered, or withdrawn from warehouse, for consumption on or after October 10, 2017, (i.e., 90 days prior to the date of publication of the Thailand preliminary determination), but before January 8, 2018, (i.e., the date of publication of the Thailand preliminary determination).

Estimated Weighted-Average Dumping Margins

The estimated weighted-average AD margins and cash deposit rates are as follows:

Belgium—exporter/producer | Estimated weighted- average AD margin (percent)
S.A. Citrique Belge N.V | 19.30%
All Others | 19.30%

Colombia—exporter/producer | Estimated weighted- average AD margin (percent)
Sucroal S.A | 28.48%
All Others | 28.48%

Thailand—exporter/producer | Estimated weighted- average AD margin (percent)
COFCO Biochemical (Thailand) Co., Ltd | 15.71%
Niran (Thailand) Co., Ltd | 13.00%
Sunshine Biotech International Co., Ltd | 6.47%
All Others | 11.25%

Notification to Interested Parties

This notice constitutes the AD orders with respect to citric acid from Belgium, Colombia, and Thailand, pursuant to section 736(a) of the Act. Interested parties can find a list of AD orders currently in effect at http://enforcement.trade.gov/stats/iastats1.html.

These orders are issued and published in accordance with section 736(a) of the Act and 19 CFR 351.211(b).

Dated: July 19, 2018.
Gary Taverman,
Deputy Assistant Secretary for Antidumping and Countervailing Duty Operations, performing the non-exclusive functions and duties of the Assistant Secretary for Enforcement and Compliance.

Appendix—Scope of the Orders

The merchandise covered by the scope of the Orders includes all grades and granulation sizes of citric acid, sodium citrate, and potassium citrate in their unblended forms, whether dry or in solution, and regardless of packaging type. The scope also includes blends of citric acid, sodium citrate, and potassium citrate; as well as blends with other ingredients, such as sugar, where the unblended form(s) of citric acid, sodium citrate, and potassium citrate constitute 40 percent or more, by weight, of the blend.

The scope also includes all forms of crude calcium citrate, including dicalcium citrate monohydrate, and tricalcium citrate tetrahydrate, which are intermediate products in the production of citric acid, sodium citrate, and potassium citrate.

The scope includes the hydrous and anhydrous forms of citric acid, the dihydrate and anhydrous forms of sodium citrate, otherwise known as citric acid sodium salt, and the monohydrate and monopotassium forms of potassium citrate. Sodium citrate also includes both trisodium citrate and monosodium citrate which are also known as citric acid trisodium salt and citric acid monosodium salt, respectively.

The scope does not include calcium citrate that satisfies the standards set forth in the United States Pharmacopeia and has been mixed with a functional excipient, such as dextrose or starch, where the excipient constitutes at least 2 percent, by weight, of the product.

Citric acid and sodium citrate are classifiable under 2918.14.0000 and 2918.15.1000 of the Harmonized Tariff Schedule of the United States (HTSUS), respectively. Potassium citrate and crude calcium citrate are classifiable under 2918.15.5000 and, if included in a mixture or blend, 3824.99.9295 of the HTSUS. Blends that include citric acid, sodium citrate, and potassium citrate are classifiable under 3824.99.9295 of the HTSUS. Although the HTSUS subheadings are provided for convenience and customs purposes, the written description of the merchandise is dispositive.

[FR Doc. 2018-15885 Filed 7-24-18; 8:45 am]

BILLING CODE 3510-DS-P